DEPARTMENT OF THE INTERIOR

Fish and Wildlife Service

[FWS-R8-NWRS-2021-N015; FXRS12610800000-212-FF08R04000]

San Diego National Wildlife Refuge, CA; Final Comprehensive Conservation Plan/Environmental Assessment and Finding of No Significant Impact

AGENCY: Fish and Wildlife Service, Interior.

ACTION: Notice of availability.

SUMMARY: We, the U.S. Fish and Wildlife Service (Service), announce the availability of a final Comprehensive Conservation Plan (CCP), environmental assessment (EA), and finding of no significant impact (FONSI) for the San Diego National Wildlife Refuge (Refuge) in California. The CCP/EA/FONSI, prepared in accordance with the National Wildlife Refuge System Improvement Act of 1997, and in accordance with the National Environmental Policy Act, describes how the Service will manage the Refuge for the next 15 years. Compatibility determinations for five public uses are also included in the final CCP.

ADDRESSES: Document Availability: You may view or download copies of the final CCP and the EA/FONSI on the Refuge's website at https://ecos.fws.gov/ServCat/Reference/Profile/133810.

FOR FURTHER INFORMATION CONTACT: Victoria Touchstone, Refuge Planner, at victoria_touchstone@fws.gov, or by phone at (619) 476-9150 ex 101; Dwane Binns, Refuge Manager, at dwane_binns@fws.gov.

SUPPLEMENTARY INFORMATION: We announce the availability of a final comprehensive conservation plan, environmental assessment, and finding of no significant impact (CCP/EA/FONSI) for San Diego National Wildlife Refuge (Refuge, or NWR), which is located in San Diego County, California. The CCP/EA/FONSI, prepared under the National Wildlife Refuge System Improvement Act of 1997, and in accordance with the National Environmental Policy Act of 1969, describes how the Service will manage the Refuge for the next 15 years. Compatibility determinations for public uses are also included in the final CCP.

Introduction

With this notice, we complete the CCP process for San Diego National Wildlife Refuge, which we began by publishing a notice of intent in the Federal Register on May 24, 2006 (71 FR 29973). For more about the initial process and the history of the Refuge, see that notice. We released the draft CCP and EA to the public, announcing and requesting comments in a notice of availability on June 19, 2014 (79 FR 35183). The 90-day comment period ended on September 17, 2014. A summary of public comments and our responses are included in the final CCP.

Background

The National Wildlife Refuge System Improvement Act of 1997 (16 U.S.C. 668dd-668ee), which amended the National Wildlife Refuge System Administration Act of 1966, requires the Service to develop a CCP for each National Wildlife Refuge. The purpose of developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation, and photography, environmental education, and interpretation. We will review and update the CCP at least every 15 years in accordance with the Improvement Act.

Each unit of the NWRS was established for specific purposes. We use these purposes as the foundation for developing and prioritizing the management goals and objectives for each refuge within the NWRS, and to determine how the public can use each refuge. The planning process is a way for us to evaluate management goals and objectives that will ensure the best possible approach to wildlife, plant, and habitat conservation, while providing for wildlife-dependent recreation opportunities that are compatible with each refuge's establishing purposes and the mission of the NWRS.

Additional Information

The final CCP can be found at https://ecos.fws.gov/ServCat/Reference/Profile/133810. The final CCP includes detailed information about the planning process, Refuge, issues, and management alternative selected. The website also includes an EA, prepared in accordance with the National Environmental Policy Act (NEPA) (43 U.S.C. 4321 et seq.). The EA includes discussion of five management alternatives. The Service's selected alternative is reflected in the final CCP, and also in the FONSI.

A modified version of Alternative D was selected for implementation. Under the selected alternative, we will optimize species and habitat protection, with a focus on conserving listed and sensitive species and their habitats. Wildlife and habitat management activities will also include monitoring of listed and sensitive species, invasive species control, and habitat restoration. A step-down Feral Pig Monitoring and Eradication Plan and an Integrated Pest Management Plan, both provided for review and comment along with the draft CCP/EA, will also be implemented. Existing wildlife-dependent recreational uses will be expanded, per available funding and staffing. Following the completion of a hunt plan and processing of an opening package, hunting in accordance with California Department of Fish and Wildlife regulations for big game, resident small game, and resident and migratory upland game birds will be permitted on about 160 acres in the southeastern portion of Refuge. A designated multiple use trail system would be established, and leashed dogs will be permitted on multiple use trails.

National Environmental Policy Act Compliance

We announce our decision and the availability of the FONSI for the Final CCP/EA for the San Diego National Wildlife Refuge, in accordance with the National Environmental Policy Act requirements (40 CFR 1506.6(b)). We completed a thorough analysis of impacts on the human environment, which we included in the draft EA that accompanied the Draft CCP. This notice is in addition to our announcement of the completion of the CCP process on the Refuge website.

The final EA discusses the direct, indirect, and cumulative impacts of the alternatives on biological resources, cultural resources, water quality, and other environmental resources. Measures to minimize adverse environmental effects are identified and discussed in the final CCP/EA.

Martha Maciel,
Acting Regional Director, Sacramento, California.

[FR Doc. 2021-16524 Filed 8-9-21; 8:45 am]

BILLING CODE 4333-15-P